DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2015 National Survey on Drug Use and Health (OMB No. 0930-0110)—Revision

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), Federal government agencies, and other organizations and researchers to establish policy, direct program activities, and better allocate resources.

In order to continue producing current data, SAMHSA's Center for Behavioral Health Statistics and Quality (CBHSQ) must periodically update aspects of the NSDUH to reflect the changing substance use and mental health issues and to continue producing current data. CBHSQ has such plans for the 2015 NSDUH survey year to achieve two goals: (1) Revise the questionnaire to address changing policy and research data needs, and (2) modify the survey methodology to improve the quality of estimates and the efficiency of data collection and processing.

Planned revisions for the 2015 NSDUH to the questionnaire, methodology and materials, including an assessment of new computer equipment, were initially tested in 2012 as part of the NSDUH Questionnaire Field Test (QFT) (OMB No. 0930-0334), then further refined and tested again in 2013 during the NSDUH Dress Rehearsal (DR) (OMB No. 0930-0334). As such, most of the changes described herein were successfully tested as part of the QFT and/or DR unless otherwise specified.

The changes to the questionnaire content for 2015 will include: (a) Revisions to modules for smokeless tobacco, hallucinogens, inhalants, prescription drugs, special drugs, consumption of alcohol, and health care; (b) revisions to the educational attainment response categories; (c) a lower threshold of binge alcohol use for females; (d) a new methamphetamine module; (e) addition of two sexual orientation questions to be asked of adults; and (f) revisions to back-end demographics questions. Also, to aid respondent recall within the questionnaire, prescription drug images and a reference date calendar will display on the computer screen rather than being displayed in hard-copy, paper form.

There are a few additional changes to the questionnaire content for 2015 not tested during the DR, which include: (a) The term “Molly” will be added to questions about Ecstasy in the hallucinogens module; (b) routine updates to logic and wording for consistency and to maximize respondent comprehension; and (c) other minor changes to questions throughout the instrument to clarify intent.

Several changes are also planned to the methodology for 2015 in an effort to improve the efficiency of data collection and processing; these were tested during the QFT and DR. A new 7-inch touch screen tablet will be used for screening and interview respondent selection, in addition to a new lightweight laptop used to administer the questionnaire. Also redesigned versions of the lead letter (mailed to respondents prior to being contacted by an interviewer) and a question & answer brochure will be provided to respondents. As necessary, all materials provided to respondents for 2015 will be updated to now reference the U.S. Department of Health and Human Services (instead of U.S. Public Health Service) and any previous mention of the Contractor, Research Triangle Institute, will now appear as RTI International. Due to changes to the questionnaire content, the showcard booklet, which allows respondents to refer to information necessary for accurate responses, will contain fewer showcards.

Along with the new laptop, text to speech (TTS) software is being programmed and tested for implementation within the questionnaire for 2015. TTS uses a computer-generated voice to read text displayed on-screen, rather than relying on the pre-recorded audio files from a human voice used previously with the audio computer-assisted self-interviewing (ACASI) portions of the interview. Though TTS was not tested as part of the QFT or DR, during an evaluation of the software, there were no problems understanding any words or phrases produced by the TTS voices in English or Spanish, so it will be implemented for the 2015 NSDUH unless there is a significant problem shown during testing. If TTS is not implemented, the current method of using pre-recorded audio files will be continued for the 2015 NSDUH.

In addition, interviewers will now have the option of showing a short video via the multimedia capability of the touch screen tablet. The video (approx. 50 seconds in run time) will provide a brief explanation of the study and why participation is important. Also contained within the tablet and new for 2015 is a parental introductory script, designed to be read to a parent or guardian once a youth respondent is selected to complete an interview. This script will standardize the introductory conversations with parent/guardians.

As with all NSDUH/NHSDA (prior to 2002, the NSDUH was referred to as the National Household Survey on Drug Abuse (NHSDA)) surveys conducted since 1999, the sample size of the survey for 2015 will be sufficient to permit prevalence estimates for each of the fifty States and the District of Columbia. The sample design for 2015 will be the same as the design used for 2014 data collection. This design places more sample in the 26 or older age groups to more accurately estimate drug use and related mental health measures among the aging drug use population, and allows for the possible adoption of address-based sampling in the future. The total annual burden estimate is shown in Table 1.

Table 1—Annualized Estimated Burden for 2015 NSDUH
Instrument | Number of respondents | Responses per respondent | Total number of responses | Hours per response | Total burden hours
Household Screening | 125,176 | 1 | 125,176 | 0.083 | 10,390
Interview | 67,507 | 1 | 67,507 | 1.000 | 67,507
Screening Verification | 3,755 | 1 | 3,755 | 0.067 | 252
Interview Verification | 10,126 | 1 | 10,126 | 0.067 | 678
Total | 125,176 |  | 125,176 |  | 78,827

Written comments and recommendations concerning the proposed information collection should be sent by July 24, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-14713 Filed 6-23-14; 8:45 am]

BILLING CODE 4162-20-P